DEPARTMENT OF ENERGY

Proposed Agency Information Collection

AGENCY: U.S. Department of Energy (DOE).

ACTION: Notice and Request for the Office of Management and Budget (OMB) Review and Comment.

SUMMARY: DOE has submitted to OMB for clearance, a proposal for collection of information under the provisions of the Paperwork Reduction Act of 1995. The proposed collection will allow respondents to submit applications for a National Priority Project Designation (NPPD) as called for by Section 1405 of the Energy Policy Act of 2005 (EPAct 2005).

DATES: Comments regarding this collection must be received on or before July 29, 2009. If you anticipate that you will be submitting comments, but find it difficult to do so within the period of time allowed by this notice, please advise the OMB Desk Officer of your intention to make a submission as soon as possible. The Desk Officer may be telephoned at 202-395-4650.

ADDRESSES: Written comments should be sent to the:

DOE Desk Officer, Office of Information and Regulatory Affairs, Office of Management and Budget, New Executive Office Building, Room 10102, 735 17th Street, NW., Washington, DC 20503. And to

Patrick Shipp, Office of Information and Business Management Systems (EE-3C), Office of Energy Efficiency and Renewable Energy, U.S. Department of Energy, 1000 Independence Ave., SW., Washington, DC 20585.

FOR FURTHER INFORMATION CONTACT: Requests for additional information or copies of the information collection instrument and instructions should be directed to Patrick Shipp, Office of Information and Business Management Systems (EE-3C), Office of Energy Efficiency and Renewable Energy, U.S. Department of Energy, Washington, DC 20585, (202) 586-7769; Jody Barringer, Office of Information and Business Management Systems (EE-3C), Office of Energy Efficiency and Renewable Energy, U.S. Department of Energy, Washington, DC 20585, (202) 586-5404; or by e-mail at nppd@ee.doe.gov.

SUPPLEMENTARY INFORMATION: This information collection request contains: (1) OMB No.: New; (2) Information Collection Request Title: National Priority Project Designation; (3) Type of Request: New collection; (4) Purpose: This collection of information is a form that DOE will make available electronically on the internet and which persons or organizations seeking NPPD under Section 1405 of EPAct 2005 (Pub. L. 109-58) must use in applying for such designation. The draft application is available at http://www.eere.energy.gov/office_eere/docs/npp_application.doc. DOE is publishing as an attachment to this notice the guidelines for requesting NPPD. The purpose of Presidential designation is to recognize energy projects that have advanced the field of renewable energy technology and contributed to North American energy independence; (5) Type of Respondents: Public and Private Sector; (6) Estimated Number of Respondents: 20; (7) Estimated Number of Burden Hours: 400 annually.

Statutory Authority: Energy Policy Act of 2005, Public Law 109-58.

Issued in Washington, DC, on June 16, 2009.
Steven G. Chalk,
Principal Deputy Assistant Secretary, Energy Efficiency and Renewable Energy.

Appendix

Department of Energy

Guidelines for National Priority Project Designation

Presidential National Priority Project Designation (NPPD) may be earned by organizations involved in projects that are leading the way in using energy efficiency and renewable energy technologies. This designation, established by Section 1405 of the Energy Policy Act of 2005 (Pub. L. 109-58) provides the President of the United States and the Secretary of Energy with a mechanism to recognize projects that are making the greatest strides in helping North America reduce its dependence on fossil fuels and promote domestic energy security.

Projects that receive NPPD will be highlighted by the Department of Energy (DOE) as transformational energy efficiency and renewable energy leaders. DOE will work with recipients and with national media sources to spotlight these projects as models for the rest of the country and the world.

I. Eligible Projects

A. Categories of Projects

DOE will accept applications for NPPD in the following project categories:

(1) Grid-Scale Generation by Wind and Biomass Energy Projects. To be eligible for NPPD, a wind or biomass project must provide electricity to the national power grid, rather than electricity designed to serve only specific end users.

A wind energy project is any installation of technologies that generates electricity, fuel or other usable energy by harnessing the power of wind.

A biomass energy project is any installation of technologies that generate electricity, fuel or other usable energy derived from biomass, and may include co-firing or co-gasification techniques if biomass is responsible for 51 percent or more of the energy produced. The term “biomass” means any lignin waste material that is segregated from other waste materials and is determined to be nonhazardous by the Administrator of the Environmental Protection Agency; and any solid, nonhazardous, cellulosic material that is derived from—

(A) Any of the following forest-related resources: mill residues, pre-commercial thinnings, slash, brush, or non-merchantable material;

(B) solid wood waste materials, including waste pallets, crates, dunnage, manufacturing and construction wood wastes (other than pressure-treated, chemically treated, or painted wood wastes), and landscape or right-of-way tree trimmings; but not including municipal solid waste (garbage), gas derived from the biodegradation of solid waste, or paper that is commonly recycled;

(C) agriculture wastes, including orchard tree crops, vineyard, grain, legumes, sugar, and other crop by-products or residues; and livestock waste nutrients; or

(D) a plant that is grown exclusively as a fuel for the production of electricity.

(2) Distributed Generation by Photovoltaic and Fuel Cell Energy Projects. A photovoltaic or fuel cell project must produce distributed generation to be eligible for NPPD. DOE considers distributed generation to be any power source that is designed to power an end user within a radius of one mile from the source.

A photovoltaic energy project is any installation of technologies that converts light directly into electricity through a solid-state, semiconductor process.

A fuel cell energy project is any application of technologies that uses fuel cells to transport energy. The term “fuel cell” means a device that directly converts the chemical energy of a fuel and an oxidant into electricity by electrochemical processes occurring at separate electrodes in the device.

(3) Building Energy Efficiency and Renewable Energy Projects. This category of eligible projects consists of energy-efficient buildings and building-based renewable energy projects.

An energy-efficient building project is one that will retrofit an existing building or build a new building such that the building performs all of its intended roles while using significantly less energy than conventional building stock. DOE considers the term “new building” to mean a building that is completed to the point of being ready for occupancy not earlier than two years before the date of the application for NPPD.

A renewable energy project is one using technology that generates electricity or usable energy in the form of heat, steam, or fuel from any of the following sources: solar, wind, biomass, landfill gas, ocean (including tidal, wave, current, and thermal), geothermal, municipal solid waste, or new hydroelectric generation capacity achieved from increased efficiency or additions of new capacity at an existing hydroelectric project.

(4) First-in-Class Building Energy Efficiency and Renewable Energy Projects. DOE considers a first-in-class project to be one that incorporates a new energy-related technology or technique not used before, not used in the same manner before, or not used on the same scale before.

B. Time of Construction

DOE will accept award applications both for projects that are being planned (are under construction or will begin construction within the next two years) and projects that are complete (were completed within the past two years).

II. Designation Criteria

To obtain NPPD, a project must:

• Utilize energy-efficient or renewable energy technologies and fit into one of the four categories of projects identified in Section I.A. of these guidelines;

• Be located within the United States; and

• Meet the following criteria (for applicable category):

◦ For wind and biomass—the project must involve the installation of not less than 30 megawatts of renewable energy generation capacity.¹

¹ For purposes of the National Priority Project Designation, the National Renewable Energy Laboratory has defined the term “capacity” to mean the maximum amount of energy that can be generated or stored by a device at any given time. For example, the capacity for a wind turbine would be the maximum electricity (Watts) it could generate given ideal wind speeds. The capacity of an energy storage device would be the total amount of energy that can be stored in the device under ideal conditions.

◦ For PV and fuel cells—the project must involve the installation of not less than 3 megawatts of renewable energy generation capacity.

◦ For buildings—the project must have all of the following attributes:

■ Meet guidelines for Leadership in Energy and Environmental Design (LEED) certification (any level);

■ Use whole-building integration of energy efficiency and environmental performance design and technology, including advanced building controls;

■ Use renewable energy for at least 50 percent of the energy consumption of the project;

■ Use ENERGY STAR®-labeled products wherever possible; and

■ Include at least 5 million square feet of enclosed space (not necessarily all in one building or at a single site). “Enclosed” means space closed off from the elements that is heated, cooled, or both.

• For first-in-class building projects—the project must represent a first-in-class use of renewable energy or a new paradigm of building-integrated renewable energy use or energy efficiency. Any project establishing a new paradigm would need to include techniques that fundamentally change the assumptions made about energy systems as they relate to building science. This category could potentially include innovative project-financing approaches. There are no scale parameters for first-in-class building projects.

III. DOE Review and Designation

A. Selection Process

After the close of the application period, DOE will review the applications and determine which projects have the potential to receive NPPD. DOE will ask the applicants of those projects to have a professional engineer inspect their project and certify that the information contained in their application is correct. The professional engineer may be an employee of the applicant organization. Once this is done, DOE will consider these projects to be “certified projects.” A certified project is one that is reasonably expected to meet the selection criteria set forth in these Guidelines.

DOE technical staff will then conduct an additional review of all certified projects. This review may involve follow-up questions for the applicant organization. At the conclusion of this review, the Secretary of Energy will select a maximum of three projects in each category to be recommended to the President for designation as that year's National Priority Projects (NPP). While DOE will accept award applications in all four project categories, the Secretary of Energy may not recommend NPPD for projects in all categories.

Any organization that applies for NPPD may remove its project from consideration at any time.

B. Promotion of Designated Projects

Organizations whose projects are designated by the President as NPP will receive recognition from DOE in the form of:

• Receipt of a NPPD medal at a national event;

• National news releases;

• Prominent recognition on the DOE Web site; and

• Other suitable forms of publicity and recognition

C. Additional Information

(1) Applicants may request confidentiality of information that they believe is exempt by law from public disclosure; this information must be clearly marked on the application by the applicant. DOE intends to honor requests for nondisclosure of information to the extent permitted by law, and it will make a final determination with regard to disclosure or nondisclosure of the information in accordance with DOE's Freedom of Information regulations (10 CFR 1004.11).

(2) Submission of an application for designation does not create any obligation on DOE to grant such designation.

(3) Questions or requests for additional information about NPPD should be directed to nppd@ee.doe.gov.

[FR Doc. E9-15194 Filed 6-26-09; 8:45 am]

BILLING CODE 6450-01-P